DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Gulf of Mexico Electronic Logbook.

OMB Control Number: 0648-0543.

Form Number(s): NA.

Type of Request: Regular submission (revision and extension of a current information collection).

Number of Respondents: 600.

Average Hours per Response: Initial installation of electronic logbook, 30 minutes; removal and reinstallation for data collection, 1 minute.

Burden Hours: 110.

Needs and Uses: This request is for revision and extension of a current information collection.

The Magnuson-Stevens Fishery Conservation and Management Act (Magnuson-Stevens Act) authorizes the Gulf of Mexico Fishery Management Council (Council) to prepare and amend fishery management plans for any fishery in waters under its jurisdiction. National Marine Fisheries Service (NMFS) manages the shrimp fishery in the waters of the Gulf of Mexico (Gulf) under the Shrimp Fishery Management Plan (FMP). The electronic logbook (ELB) regulations for the Gulf shrimp fishery may be found at 50 CFR 622.5(a)(iii).

There are currently approximately 1,563 permitted vessels that harvest shrimp from the Exclusive Economic Zone (EEZ), and the Council estimates that there are over 13,000 boats that fish in state waters. With such a large number of vessels of differing sizes, gears used, and fishing capabilities compounded by seasonal variability in abundance and price and the broad geographic distribution of the fleet, ELBs provide a more precise means of estimating the amount of fishing effort than current methods. Using ELBs to improve estimating fishing effort will help improve estimating bycatch in the Gulf shrimp fleet. In 2012, an additional 100 vessels will be selected for ELBs.

Affected Public: Business or other for-profitorganizations.

Frequency: One time and bimonthly.

Respondent's Obligation: Mandatory.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: September 25, 2012.
Gwellnar Banks,
Management Analyst, Office of the Chief Information Officer.

[FR Doc. 2012-24041 Filed 9-28-12; 8:45 am]

BILLING CODE 3510-22-P